DEPARTMENT OF DEFENSE

GENERAL SERVICES ADMINISTRATION

NATIONAL AERONAUTICS AND SPACE ADMINISTRATION

48 CFR Chapter 1

[Docket FAR-2010-0076, Sequence 6]

Federal Acquisition Regulation; Federal Acquisition Circular 2005-44; Introduction

AGENCY: Department of Defense (DoD), General Services Administration (GSA), and National Aeronautics and Space Administration (NASA).

ACTION: Summary presentation of an interim rule.

SUMMARY: This document summarizes the Federal Acquisition Regulation (FAR) rule agreed to by the Civilian Agency Acquisition Council and the Defense Acquisition Regulations Council in this Federal Acquisition Circular (FAC) 2005-44. A companion document, the Small Entity Compliance Guide (SECG), follows this FAC. The FAC, including the SECG, is available via the Internet at http://regulations.gov/.

DATES: For effective date, see separate document, which follows.

FOR FURTHER INFORMATION CONTACT: For clarification of content, contact the analyst whose name appears in the table below in relation to the FAR case or subject area. Please cite FAC 2005-44 and the FAR case number. Interested parties may also visit our Web site at http://acquisition.gov/far. For information pertaining to status or publication schedules, contact the Regulatory Secretariat at (202) 501-4755.

Rule Listed in FAC 2005-44
Subject | FAR case | Analyst
Reporting Executive Compensation and First-Tier Subcontract Awards | 2008-039 | Woodson

SUPPLEMENTARY INFORMATION: A summary for the FAR rule follows. For the actual revisions and/or amendments to this FAR case, refer to FAR case 2008-039.

FAC 2005-44 amends the FAR as specified below:

Reporting Executive Compensation and First-Tier Subcontract Awards (FAR Case 2008-039)

This interim rule amends the Federal Acquisition Regulation to implement section 2 of Federal Funding Accountability and Transparency Act of 2006 (Pub. L. 109-282), as amended by section 6202 of the Government Funding Transparency Act of 2008 (Pub. L. 110-252), which requires the Office of Management and Budget (OMB) to establish a free, public, website containing full disclosure of all Federal contract award information. This rule will require contractors to report executive compensation and first-tier subcontract awards on contracts and orders expected to be $25,000 or more (including all options), except classified contracts and contracts with individuals. This information will be available to the public. To minimize the burden implementing the Transparency Act will impose on both Federal agencies and contractors, the Councils intend to implement the reporting requirements in a phased approach:

1. Until September 30, 2010, any newly awarded subcontract must be reported if the prime contract award amount was $20,000,000 or more.

2. From October 1, 2010, until February 28, 2011, any newly awarded subcontract must be reported if the prime contract award amount was $550,000 or more.

3. Starting March 1, 2011, any newly awarded subcontract must be reported if the prime contract award amount was $25,000 or more.

The rule is applicable to all solicitations and contracts with a value of $25,000 or more. The clause is required in commercial item contracts, including commercially available off-the-shelf (COTS) item contracts, as well as actions under the simplified acquisition threshold, meeting the $25,000 threshold. The clause is not required in classified solicitations and contracts, and contracts with individuals.

Dated: July 2, 2010.
Edward Loeb,
Director, Acquisition Policy Division.

Federal Acquisition Circular

Federal Acquisition Circular (FAC) 2005-44 is issued under the authority of the Secretary of Defense, the Administrator of General Services, and the Administrator for the National Aeronautics and Space Administration.

Unless otherwise specified, all Federal Acquisition Regulation (FAR) and other directive material contained in FAC 2005-44 is effective July 8, 2010.

Dated: July 2, 2010.
Linda W. Nielson,
Deputy Director, Defense Procurement and Acquisition Policy (Defense Acquisition Regulations System).
Dated: June 30, 2010.
Edward Loeb,
Acting Deputy Associate Administrator for Acquisition Policy, Office of Acquisition Policy, U.S. General Services Administration.
Dated: June 29, 2010.
William P. McNally,
Assistant Administrator for Procurement, National Aeronautics and Space Administration.

[FR Doc. 2010-16693 Filed 7-7-10; 8:45 am]

BILLING CODE 6820-EP-P